DEPARTMENT OF THE INTERIOR

Fish and Wildlife Service

Issuance of Right-of-Way Permit

AGENCY: Fish and Wildlife Service, Interior.

ACTION: Notice.

SUMMARY: This notice advises the public that the Fish and Wildlife Service will issue a right-of-way permit to Petroleum Properties Corporation for the construction of a 20-inch underground natural gas pipeline on lands of the Sutter National Wildlife Refuge in Sutter County, California, described as follows: Mount Diablo Meridian, Township 14 N, Range 2 E, Section 9. The right-of-way would run about 0.1 to 0.2 miles south of Hughes Road.

DATES: The permit will be issued within 30 days of June 1, 2000.

FOR FURTHER INFORMATION CONTACT: Anne Cullen, Division of Realty, 911 NE 11th Avenue, Portland, Oregon, 97232-4181, telephone (503) 231-6201.

Dated: May 25, 2000.
Carolyn A. Bohan,
Acting Regional Director, Portland, Oregon.

[FR Doc. 00-13657 Filed 5-31-00; 8:45 am]

BILLING CODE 4310-55-P